DEPARTMENT OF ENERGY

Federal Energy Regulatory Commission

[Docket No. ER03-343-004, et al.]

ITC Holdings Corp., et al.; Electric Rate and Corporate Filings

Correction

In notice document E4-536 beginning on page 11613 in the issue of Thursday, March 11, 2004, make the following correction:

On page 11614, in the second column, under the heading “9. Commonwealth Edison Company”, in the first line, “[Docket No. ER04-96-000]” should read “[Docket No. ER04-596-000]”.

[FR Doc. Z4-536 Filed 3-22-04; 8:45 am]

BILLING CODE 1505-01-D